DEPARTMENT OF COMMERCE

International Trade Administration

[A-549-822]

Certain Frozen Warmwater Shrimp From Thailand: Final Results of Antidumping Duty Administrative Review and Final Determination of No Shipments; 2014-2015

AGENCY: Enforcement and Compliance, International Trade Administration, Department of Commerce.

SUMMARY: On March 10, 2016, the Department of Commerce (the Department) published the preliminary results of the administrative review of the antidumping duty order on certain frozen warmwater shrimp from Thailand.¹ The review covers 163 producers/exporters of the subject merchandise. The period of review (POR) is February 1, 2014, through January 31, 2015.

¹ See Certain Frozen Warmwater Shrimp from Thailand; Preliminary Results of Antidumping Duty Administrative Review, Rescission of Review, in Part, and Preliminary Determination of No Shipments; 2014-2015, 81 FR 12696 (March 10, 2016) (Preliminary Results), and accompanying Preliminary Decision Memorandum.

No interested party submitted comments on the preliminary results. However, we revised the computer program for Mayao to correct an error with respect to the printing of the assessment rate calculations. Finally, we find that four companies had no shipments of subject merchandise during the POR.

FOR FURTHER INFORMATION CONTACT: Dennis McClure or Alice Maldonado, AD/CVD Operations, Office II, Enforcement and Compliance, International Trade Administration, U.S. Department of Commerce, 14th Street and Constitution Avenue NW., Washington, DC 20230; telephone: (202) 482-5973 and (202) 482-4682, respectively.

SUPPLEMENTARY INFORMATION:

Background

The review covers 163 producers/exporters of the subject merchandise. The respondents which the Department selected for individual examination are Mayao ² and Thai Union.³ The respondents which were not selected for individual examination are listed in the “Final Results of the Review” section of this notice.

² Mayao consists of the following companies: A Foods 1991 Co., Limited and May Ao Foods Co., Ltd.

³ Thai Union consists of the following affiliated companies: Thai Union Frozen Products Co., Ltd., Thai Union Seafood Company Limited, Pakfood Public Company Limited, Asia Pacific (Thailand) Co., Ltd., Chaophraya Cold Storage Co. Ltd., Okeanos Co. Ltd., Okeanos Food Co. Ltd., and Takzin Samut Co. Ltd.

On March 10, 2016, the Department published the Preliminary Results. We invited parties to comment on the preliminary results of the review.⁴ No interested party submitted comments. Accordingly, no decision memorandum accompanies this Federal Register notice.⁵ However, we revised the computer program for Mayao to correct an error with respect to the printing of the assessment rate calculations. The Department conducted this administrative review in accordance with section 751 of the Tariff Act of 1930, as amended (the Act).

⁴ See Preliminary Results, 81 FR at 12700.

⁵ For further details of the issues addressed in this proceeding, see Preliminary Results, 81 FR at 12696, and accompanying Preliminary Decision Memorandum.

Scope of the Order

The scope of this order includes certain warmwater shrimp and prawns, whether frozen, wild-caught (ocean harvested) or farm-raised (produced by aquaculture), head-on or head-off, shell-on or peeled, tail-on or tail-off,⁶ deveined or not deveined, cooked or raw, or otherwise processed in frozen form.

⁶ “Tails” in this context means the tail fan, which includes the telson and the uropods.

The frozen warmwater shrimp and prawn products included in the scope of this order, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this order. In addition, food preparations (including dusted shrimp), which are not “prepared meals,” that contain more than 20 percent by weight of shrimp or prawn are also included in the scope of this order.

Excluded from the scope are: (1) Breaded shrimp and prawns (HTSUS subheading 1605.20.10.20); (2) shrimp and prawns generally classified in the Pandalidae family and commonly referred to as coldwater shrimp, in any state of processing; (3) fresh shrimp and prawns whether shell-on or peeled (HTSUS subheadings 0306.23.00.20 and 0306.23.00.40); (4) shrimp and prawns in prepared meals (HTSUS subheading 1605.20.05.10); (5) dried shrimp and prawns; (6) canned warmwater shrimp and prawns (HTSUS subheading 1605.20.10.40); and (7) certain battered shrimp. Battered shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and ten percent of the product's total weight after being dusted, but prior to being frozen; and (5) that is subjected to individually quick frozen (IQF) freezing immediately after application of the dusting layer. When dusted in accordance with the definition of dusting above, the battered shrimp product is also coated with a wet viscous layer containing egg and/or milk, and par-fried.

The products covered by this order are currently classified under the following HTSUS subheadings: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. These HTSUS subheadings are provided for convenience and for customs purposes only and are not dispositive, but rather the written description of the scope of this order is dispositive.⁷

⁷ On April 26, 2011, the Department amended the antidumping duty order to include dusted shrimp, pursuant to the U.S. Court of International Trade (CIT) decision in Ad Hoc Shrimp Trade Action Committee v. United States, 703 F. Supp. 2d 1330 (CIT 2010) and the U.S. International Trade Commission determination, which found the domestic like product to include dusted shrimp. See Certain Frozen Warmwater Shrimp from Brazil, India, the People's Republic of China, Thailand, and the Socialist Republic of Vietnam: Amended Antidumping Duty Orders in Accordance with Final Court Decision, 76 FR 23277 (April 26, 2011); see also Ad Hoc Shrimp Trade Action Committee v. United States, 703 F. Supp. 2d 1330 (CIT 2010) and Frozen Warmwater Shrimp from Brazil, China, India, Thailand, and Vietnam (Investigation Nos. 731-TA-1063, 1064, 1066-1068 (Review), USITC Publication 4221, March 2011.

Determination of No Shipments

As noted in the Preliminary Results, we received no shipment claims from four companies involved in this administrative review: Gallant Ocean (Thailand) Co., Ltd. (Gallant Ocean), Lucky Union Foods Co., Ltd. (Lucky Union), Marine Gold Products Ltd. (Marine Gold),⁸ and Thai Union Manufacturing Company Limited (Thai Union Manufacturing). In the Preliminary Results, we preliminarily determined that Gallant Ocean and Lucky Union had no reviewable transactions during the POR.⁹ We received no comments from interested parties with respect to these claims. Therefore, because we find that the record indicates that these companies did not export subject merchandise to the United States during the POR, we continue to find that Gallant Ocean and Lucky Union had no reviewable transactions during the POR.

⁸ Shrimp produced and exported by Marine Gold was excluded from the antidumping duty order effective February 1, 2012. See Certain Frozen Warmwater Shrimp From Thailand: Final Results of Antidumping Duty Administrative Review, Partial Rescission of Review, and Revocation of Order (in Part); 2011-2012, 78 FR 42497, 42499 (July 16, 2013). Accordingly, we are conducting this administrative review with respect to Marine Gold only for shrimp produced in Thailand where Marine Gold acted as either the producer or the exporter (but not both).

⁹ See Preliminary Results, 81 FR at 12697.

With respect to Marine Gold and Thai Union Manufacturing, in the Preliminary Results, there was insufficient evidence on the record to conclude that these companies made no shipments of subject merchandise during the POR and we continued to include them in the administrative review.¹⁰ Subsequently, we received information from U.S. Customs and Border Protection (CBP) confirming Marine Gold's and Thai Union Manufacturing's no shipment claims.¹¹ We received no comments from interested parties with respect to this information. Therefore, because we find that the record indicates that Marine Gold and Thai Union Manufacturing also did not export subject merchandise to the United States during the POR, we find that they had no reviewable transactions during the POR.

¹⁰ See id.

¹¹ See the memo to the file entitled, “Certain Frozen Warmwater Shrimp from Thailand: 2014-2015 Administrative Review—U.S. Entry Documents Placed on the Record,” dated April 14, 2016.

Final Results of the Review

We are assigning the following dumping margins to the respondents for the period February 1, 2014, through January 31, 2015, as follows:

Producer/exporter | Dumping margin (percent)
A Foods 1991 Co., Limited/May Ao Foods Co., Ltd | 1.36
Thai Union Frozen Products Public Co., Ltd./Thai Union Seafood Co., Ltd./Pakfood Public Company Limited/Okeanos Food Co., Ltd./Okeanos Co. Ltd./Asia Pacific (Thailand) Co., Ltd.,/Chaophraya Cold Storage Co. Ltd./Takzin Samut Co. Ltd | 0.00

Review-Specific Average Rate Applicable to the Following Non-Selected Companies: ¹²

Producer/exporter | Dumping margin (percent)
A. Wattanachai Frozen Products Co., Ltd | 1.36
A.P. Frozen Foods Co., Ltd | 1.36
A.S. Intermarine Foods Co., Ltd | 1.36
ACU Transport Co., Ltd | 1.36
Ampai Frozen Foods Co., Ltd | 1.36
Anglo-Siam Seafoods Co., Ltd | 1.36
Apex Maritime (Thailand) Co., Ltd | 1.36
Apitoon Enterprise Industry Co., Ltd | 1.36
Applied DB | 1.36
Asian Seafood Coldstorage (Sriracha) | 1.36
Asian Seafoods Coldstorage Public Co., Ltd./Asian Seafoods Coldstorage (Suratthani) Co./STC Foodpak Ltd | 1.36
Assoc. Commercial Systems | 1.36
B.S.A. Food Products Co., Ltd | 1.36
Bangkok Dehydrated Marine Product Co., Ltd | 1.36
C Y Frozen Food Co., Ltd | 1.36
C.P. Mdse | 1.36
C.P. Merchandising Co., Ltd | 1.36
CP Retailing and Marketing Co | 1.36
C.P. Intertrade Co | 1.36
Calsonic Kansei (Thailand) Co., Ltd | 1.36
Century Industries Co., Ltd | 1.36
Chaivaree Marine Products Co., Ltd | 1.36
Chaiwarut Company Limited | 1.36
Charoen Pokphand Foods Public Co., Ltd | 1.36
Charoen Pokphand Petrochemical Co., Ltd | 1.36
Chonburi LC | 1.36
Chue Eie Mong Eak | 1.36
Commonwealth Trading Co., Ltd | 1.36
Core Seafood Processing Co., Ltd | 1.36
CPF Food Products Co., Ltd | 1.36
Crystal Frozen Foods Co., Ltd and/or Crystal Seafood | 1.36
Daedong (Thailand) Co. Ltd | 1.36
Daiei Taigen (Thailand) Co., Ltd | 1.36
Daiho (Thailand) Co., Ltd | 1.36
Dynamic Intertransport Co., Ltd | 1.36
Earth Food Manufacturing Co., Ltd | 1.36
F.A.I.T. Corporation Limited | 1.36
Far East Cold Storage Co., Ltd | 1.36
Fimex VN | 1.36
Findus (Thailand) Ltd | 1.36
Fortune Frozen Foods (Thailand) Co., Ltd | 1.36
Frozen Marine Products Co., Ltd | 1.36
Gallant Ocean (Thailand) Co., Ltd | *
Gallant Seafoods Corporation | 1.36
Global Maharaja Co., Ltd | 1.36
Golden Sea Frozen Foods Co., Ltd | 1.36
Golden Thai Imp. & Exp. Co., Ltd | 1.36
Good Fortune Cold Storage Co. Ltd | 1.36
Good Luck Product Co., Ltd | 1.36
Grobest Frozen Foods Co., Ltd | 1.36
Gulf Coast Crab Intl | 1.36
H.A.M. International Co., Ltd | 1.36
Haitai Seafood Co., Ltd | 1.36
Handy International (Thailand) Co., Ltd | 1.36
Heng Seafood Limited Partnership | 1.36
Heritrade | 1.36
HIC (Thailand) Co., Ltd | 1.36
High Way International Co., Ltd | 1.36
I.T. Foods Industries Co., Ltd | 1.36
Inter-Oceanic Resources Co., Ltd | 1.36
Inter-Pacific Marine Products Co., Ltd | 1.36
I.S.A. Value Co., Ltd | 1.36
K & U Enterprise Co., Ltd | 1.36
K Fresh | 1.36
K. D. Trading Co., Ltd | 1.36
K.L. Cold Storage Co., Ltd | 1.36
KF Foods Limited | 1.36
Kiang Huat Sea Gull Trading Frozen Food Public Co., Ltd | 1.36
Kibun Trdg | 1.36
Kingfisher Holdings Ltd | 1.36
Kitchens of the Oceans (Thailand) Company, Ltd | 1.36
Klang Co., Ltd | 1.36
Kongphop Frozen Foods Co., Ltd | 1.36
Lee Heng Seafood Co., Ltd | 1.36
Leo Transports | 1.36
Li-Thai Frozen Foods Co., Ltd | 1.36
Lucky Union Foods Co., Ltd | *
Magnate & Syndicate Co., Ltd | 1.36
Mahachai Food Processing Co., Ltd | 1.36
Mahachai Marine Foods Co., Ltd | 1.36
Marine Gold Products Ltd.¹³ | *
Merit Asia Foodstuff Co., Ltd | 1.36
Merkur Co., Ltd | 1.36
Ming Chao Ind Thailand | 1.36
N&N Foods Co., Ltd | 1.36
N.R. Instant Produce Co., Ltd | 1.36
Namprik Maesri Ltd. Part | 1.36
Narong Seafood Co., Ltd | 1.36
Nongmon SMJ Products | 1.36
Ongkorn Cold Storage Co., Ltd./Thai-Ger Marine Co., Ltd | 1.36
Pacific Queen Co., Ltd | 1.36
Pakpanang Coldstorage Public Co., Ltd | 1.36
Penta Impex Co., Ltd | 1.36
Pinwood Nineteen Ninety Nine | 1.36
Piti Seafood Co., Ltd | 1.36
Premier Frozen Products Co., Ltd | 1.36
Preserved Food Specialty Co., Ltd | 1.36
Queen Marine Food Co., Ltd | 1.36
Rayong Coldstorage (1987) Co., Ltd | 1.36
S&D Marine Products Co., Ltd | 1.36
S&P Aquarium | 1.36
S&P Syndicate Public Company Ltd | 1.36
S. Chaivaree Cold Storage Co., Ltd | 1.36
S. Khonkaen Food Industry Public Co., Ltd and/or S. Khonkaen Food Ind. Public | 1.36
S.K. Foods (Thailand) Public Co. Limited | 1.36
Samui Foods Company Limited | 1.36
Saota Seafood Factory | 1.36
SB Inter Food Co., Ltd | 1.36
SCT Co., Ltd | 1.36
Sea Bonanza Food Co., Ltd | 1.36
SEA NT'L CO., LTD | 1.36
Seafoods Enterprise Co., Ltd | 1.36
Seafresh Fisheries/Seafresh Industry Public Co., Ltd | 1.36
Search and Serve | 1.36
Sethachon Co., Ltd | 1.36
Shianlin Bangkok Co., Ltd | 1.36
Shing Fu Seaproducts Development Co | 1.36
Siam Food Supply Co., Ltd | 1.36
Siam Haitian Frozen Food Co., Ltd | 1.36
Siam Intersea Co., Ltd | 1.36
Siam Marine Products Co. Ltd | 1.36
Siam Ocean Frozen Foods Co. Ltd | 1.36
Siamchai International Food Co., Ltd | 1.36
Smile Heart Foods Co. Ltd | 1.36
SMP Products, Co., Ltd | 1.36
Star Frozen Foods Co., Ltd | 1.36
Starfoods Industries Co., Ltd | 1.36
Suntechthai Intertrading Co., Ltd | 1.36
Surapon Foods Public Co., Ltd./Surat Seafoods Public Co., Ltd | 1.36
Surapon Nichirei Foods Co., Ltd | 1.36
Suratthani Marine Products Co., Ltd | 1.36
Suree Interfoods Co., Ltd | 1.36
T.S.F. Seafood Co., Ltd | 1.36
Tep Kinsho Foods Co., Ltd | 1.36
Teppitak Seafood Co., Ltd | 1.36
Tey Seng Cold Storage Co., Ltd | 1.36
Thai Agri Foods Public Co., Ltd | 1.36
Thai Hanjin Logistics Co., Ltd | 1.36
Thai Mahachai Seafood Products Co., Ltd | 1.36
Thai Ocean Venture Co., Ltd | 1.36
Thai Patana Frozen | 1.36
Thai Prawn Culture Center Co., Ltd | 1.36
Thai Royal Frozen Food Co., Ltd | 1.36
Thai Spring Fish Co., Ltd | 1.36
Thai Union Manufacturing Company Limited | *
Thai World Imports and Exports Co., Ltd | 1.36
Thai Yoo Ltd., Part | 1.36
The Siam Union Frozen Foods Co., Ltd | 1.36
The Union Frozen Products Co., Ltd./Bright Sea Co., Ltd | 1.36
Trang Seafood Products Public Co., Ltd | 1.36
Transamut Food Co., Ltd | 1.36
Tung Lieng Tradg | 1.36
United Cold Storage Co., Ltd | 1.36
UTXI Aquatic Products Processing Company | 1.36
V. Thai Food Product Co., Ltd | 1.36
Wann Fisheries Co., Ltd | 1.36
Xian-Ning Seafood Co., Ltd | 1.36
Yeenin Frozen Foods Co., Ltd | 1.36
YHS Singapore Pte | 1.36
ZAFCO TRDG | 1.36
* No shipments or sales subject to this review.

Assessment Rates

¹² This rate is based on the rates for the respondents that were selected for individual review, excluding rates that are zero, de minimis or based entirely on facts available. See section 735(c)(5)(A) of the Act.

¹³ As discussed above, we conducted this administrative review with respect to Marine Gold only for shrimp produced in Thailand where Marine Gold acted as either the producer or the exporter (but not both).

The Department shall determine, and CBP shall assess, antidumping duties on all appropriate entries. Pursuant to 19 CFR 351.212(b)(1), where Mayao and Thai Union reported the entered value for their U.S. sales, we calculated importer-specific ad valorem duty assessment rates based on the ratio of the total amount of antidumping duties calculated for the examined sales to the total entered value of the sales for which entered value was reported. Where Mayao and Thai Union did not report entered value, we calculated the entered value in order to calculate the assessment rates. Where either the respondent's weighted-average dumping margin is zero or de minimis within the meaning of 19 CFR 351.106(c), or an importer-specific rate is zero or de minimis, we will instruct CBP to liquidate the appropriate entries without regard to antidumping duties.¹⁴

¹⁴ We note that the Department's preliminary calculations for Mayao did not contain a complete set of printed assessment rate tables. Consequently, we updated the computer program which generated these calculations to print all of the rates. We based the assessment instructions for Mayao on the rates stated in the appropriate table.

For the companies which were not selected for individual examination, we used as the assessment rate the cash deposit rate assigned to Mayao

Consistent with our established practice, for entries of subject merchandise during the POR produced and exported by Thai Union or Mayao for which they did not know that the merchandise was destined for the United States, we will instruct CBP to liquidate unreviewed entries at the all-others rate effective during the POR if there is no rate for the intermediate company(ies) involved in the transaction.

The Department intends to issue assessment instructions to CBP 15 days after the date of publication of these final results of review.

Cash Deposit Requirements

The following cash deposit requirements will be effective for all shipments of subject merchandise entered, or withdrawn from warehouse, for consumption on or after the publication date of the final results of this administrative review, as provided by section 751(a)(2)(C) of the Act: (1) The cash deposit rates for the reviewed companies will be the rates shown above, except if the rate is less than 0.50 percent (de minimis within the meaning of 19 CFR 351.106(c)(1)), the cash deposit will be zero; (2) for previously reviewed or investigated companies not listed above, the cash deposit rate will continue to be the company-specific rate published for the most recently completed segment; (3) if the exporter is not a firm covered in this review, a previous review, or the original less-than-fair value investigation, but the manufacturer is, the cash deposit rate will be the rate established for the most recent period for the manufacturer of the merchandise; and (4) the cash deposit rate for all other manufacturers or exporters will continue to be 5.34 percent, the all-others rate made effective by the Section 129 Determination.¹⁵ These deposit requirements, when imposed, shall remain in effect until further notice.

¹⁵ Effective January 16, 2009, there is no longer a cash deposit requirement for certain producers/exporters in accordance with the Implementation of the Findings of the WTO Panel in United States Antidumping Measure on Shrimp from Thailand: Notice of Determination under Section 129 of the Uruguay Round Agreements Act and Partial Revocation of the Antidumping Duty Order on Frozen Warmwater Shrimp from Thailand, 74 FR 5638 (January 30, 2009) (Section 129 Determination).

Notification to Importers

This notice serves as the only reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing this notice in accordance with sections 751(a)(1) and 777(i) of the Act and 19 CFR 351.213(h).

Dated: June 15, 2016.
Paul Piquado,
Assistant Secretary for Enforcement and Compliance.

[FR Doc. 2016-14808 Filed 6-21-16; 8:45 am]

BILLING CODE 3510-DS-P